DEPARTMENT OF ENERGY

Federal Energy Regulatory Commission

Combined Notice of Filings #1

February 21, 2008.

Take notice that the Commission has received the following Natural Gas Pipeline Rate and Refund Report filings:

Docket Numbers: RP08-137-001.

Applicants: Cheniere Creole Trail Pipeline, LP.

Description: Cheniere Creole Trail Pipeline, LP submits its First revised Sheet 115 et al. to FERC Gas Tariff, Original Volume 1.

Filed Date: 02/15/2008.

Accession Number: 20080219-0237.

Comment Date: 5 p.m. Eastern Time on Wednesday, February 27, 2008.

Docket Numbers: RP08-187-001.

Applicants: Northern Natural Gas Company.

Description: Northern Natural Gas Co. submits its Substitute 22 Revised Sheet 61 et. al. to its FERC Gas Tariff, Fifth Revised Volume 1.

Filed Date: 02/19/2008.

Accession Number: 20080221-0006.

Comment Date: 5 p.m. Eastern Time on Tuesday, February 26, 2008.

Docket Numbers: RP08-200-000.

Applicants: Guardian Pipeline, L.L.C.

Description: Guardian Pipeline, LLC submits nine service agreements including an FT-2 Service Agreement, an EAW Service Agreement and an MA Service Agreement with Wisconsin Gas, LLC et al.

Filed Date: 02/15/2008.

Accession Number: 20080220-0005.

Comment Date: 5 p.m. Eastern Time on Wednesday, February 27, 2008.

Docket Numbers: RP08-201-000.

Applicants: Colorado Interstate Gas Company.

Description: Colorado Interstate Gas Co. submits their request for FERC to allow for an out-of-time adjustment to its transportation fuel gas reimbursement percentage & files Forty-Ninth Revised Sheet 11A to FERC Gas Tariff, First Revised Volume 1.

Filed Date: 02/19/2008.

Accession Number: 20080221-0002.

Comment Date: 5 p.m. Eastern Time on Monday, March 3, 2008.

Docket Numbers: RP08-202-000.

Applicants: Saltville Gas Storage Company L.L.C.

Description: Saltville Gas Storage Company, LLC submits its Sixth Revised Sheet 204 to FERC Gas Tariff, Original Volume 1, to be effective 3/21/08.

Filed Date: 02/19/2008.

Accession Number: 20080221-0001.

Comment Date: 5 p.m. Eastern Time on Monday, March 3, 2008.

Docket Numbers: RP08-23-000.

Applicants: Wyoming Interstate Company, Ltd.

Description: Wyoming Interstate Co, Ltd's request that FERC permit them to make a cash payment to its customers for the over-collection of fuel gas and lost and unaccounted-for gas that occurred between 9/1/07—11/30/07.

Filed Date: 02/19/2008.

Accession Number: 20080221-0003.

Comment Date: 5 p.m. Eastern Time on Monday, March 3, 2008.

Docket Numbers: RP08-204-000.

Applicants: Columbia Gas Transmission Corporation.

Description: Columbia Gas Transmission Corp. submits its Twentieth Revised Sheet 500B to its FERC Gas Tariff, Second Revised Volume 1.

Filed Date: 02/19/2008.

Accession Number: 20080221-0004.

Comment Date: 5 p.m. Eastern Time on Monday, March 3, 2008.

Docket Numbers: RP08-205-000.

Applicants: Northern Natural Gas Company.

Description: Northern Natural Gas Co. submits non-conforming and negotiated rate service agreements with Constellation Energy Commodities & 15 Revised Sheet 66B et al. to FERC Gas Tariff, Fifth Revised Volume 1.

Filed Date: 02/19/2008.

Accession Number: 20080221-0005.

Comment Date: 5 p.m. Eastern Time on Monday, March 3, 2008.

Docket Numbers: RP08-206-000.

Applicants: Canyon Creek Compression Company.

Description: Canyon Creek Compression Co. submits its Penalty Revenue Crediting Report.

Filed Date: 02/20/2008.

Accession Number: 20080221-0007.

Comment Date: 5 p.m. Eastern Time on Monday, March 3, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-3664 Filed 2-26-08; 8:45 am]

BILLING CODE 6717-01-P